DEPARTMENT OF HEALTH AND HUMAN SERVICES

Administration for Community Living

Agency Information Collection Activities; Submission for OMB Review; Comment Request; National Survey of Older Americans Act Participants

AGENCY: Administration for Community Living, HHS.

ACTION: Notice.

SUMMARY: The Administration for Community Living (ACL) is announcing that the proposed collection of information listed below has been submitted to the Office of Management and Budget (OMB) for review and clearance under the Paperwork Reduction Act of 1995.

DATES: Submit written comments on the collection of information by April 30, 2014.

ADDRESSES: Submit written comments on the collection of information by fax 202.395.5806 or by email to OIRA_submission@omb.eop.gov, Attn: OMB Desk Officer for ACL.

FOR FURTHER INFORMATION CONTACT: Elena Fazio at 202-357-3583 or email: elena.fazio@acl.hhs.gov.

SUPPLEMENTARY INFORMATION: In compliance with 44 U.S.C. 3507, ACL has submitted the following proposed collection of information to OMB for review and clearance.

The National Survey of Older Americans Act (OAA) Participants information collection, which builds on earlier national pilot studies and surveys, as well as performance measurement tools developed by ACL grantees in the Performance Outcomes Measures Project (POMP), will include consumer assessment surveys for the Congregate and Home-delivered meal nutrition programs; Case Management, Homemaker, and Transportation Services; and the National Family Caregiver Support Program. This information will be used by ACL to track performance outcome measures; support budget requests; comply with GPRA Modernization Act of 2010 (GPRAMA) reporting requirements; provide national benchmark information; and inform program development and management initiatives. Descriptions of previous National Surveys of OAA Participants can be found under the section on OAA Performance Outcomes on ACL's Web site at: http://www.aoa.gov/AoARoot/Program_Results/OAA_Performance.aspx. Copies of the survey instruments and data from previous National Surveys of OAA Participants can be found and queried using the AGing Integrated Database (AGID) at http://www.agid.acl.gov/. The proposed Ninth National Survey entitled Ninth National Survey of OAA Participants, draft, March 6, 2014 may be found on the ACL Web site at http://www.aoa.gov/AoARoot/Program_Results/OAA_Performance.aspx.

AoA estimates the burden of this collection of information as follows: Respondents: Individuals; Number of Respondents: 6,250; Number of Responses per Respondent: one; Average Burden per Response: 6000 at 40 minutes, 250 at 4 hours: Total Burden: 5,000 hours.

Dated: March 26, 2014.
Kathy Greenlee,
Administrator and Assistant Secretary for Aging.

[FR Doc. 2014-07148 Filed 3-28-14; 8:45 am]

BILLING CODE 4154-01-P